DEPARTMENT OF HEALTH AND HUMAN SERVICES

Centers for Disease Control and Prevention

[60Day-11-11IN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Testing and Evaluation of Tobacco Communication Activities—New National Center for Chronic Disease Prevention and Health Promotion (NCCDPHP), Centers for Disease Control and Prevention (CDC).

Background and Brief Description

Tobacco use remains the leading preventable cause of death in the United States, causing over 443,000 deaths each year and resulting in an annual cost of more than $96 billion in direct medical expenses. The only proven strategy for reducing the risk of tobacco-related morbidity and mortality is to never smoke, or to quit if tobacco use has been initiated.

Within the Centers for Disease Control and Prevention (CDC), the Office on Smoking and Health (OSH) serves as a primary resource of tobacco and health information for the public, health professionals, various branches of government, and other interested groups. OSH distributes tobacco-related health communications using a wide array of formats and media channels, conducts formative research to develop and test tobacco-related communications, and evaluates the effectiveness of messages and campaigns. OSH employs a strategic and systematic approach to the design and evaluation of high-quality health messages and campaigns, by applying scientific methods to the development of health messages, obtaining input from public health partners, and pre-testing with target audiences.

Recent legislative developments highlight the importance of tobacco control—and appropriate tobacco control messages—in efforts to improve the nation's health. These developments include the Prevention and Public Health Fund, established by the Affordable Care Act (ACA), which supports initiatives designed to reduce the health and financial burden of tobacco use through prevention and cessation approaches. An essential component of this initiative is a national campaign to increase awareness of the health consequences of tobacco use and exposure to secondhand smoke. OSH is primarily responsible for planning, implementing, and evaluating the campaign.

CDC requests OMB approval of a new, generic clearance mechanism to support information collection for the development, implementation and evaluation of tobacco-related health messages and campaigns. The proposed generic mechanism will establish a unified clearance framework for a broad array of tobacco-related communication activities, which may occur on an as-needed basis, or in the context of a coordinated series of activities. A generic clearance is needed to support the breadth, flexibility and time-sensitivity of information collections required to execute and evaluate the upcoming ACA-funded tobacco communication campaign, and to support OSH's ongoing programmatic needs, including materials development and testing for the Media Campaign Research Center.

Information will be collected through a variety of strategies including in-person focus groups, online focus groups, computer-assisted, in-person, or telephone interviews, and online surveys of variable length (short, medium, in-depth). The average burden per response is expected to range from 6-25 minutes for online surveys, and from 1-1.5 hours for interviews and focus groups. CDC will request OMB approval for each data collection activity through submission of a specific Information Collection Request that describes its purpose, use, methodology, and impact on affected respondents. The information will be used to improve the clarity, salience, appeal, and persuasiveness of messages and campaigns supporting OSH's mission. CDC's authority to collect information for public health purposes is provided by the Public Health Service Act (41 U.S.C. 241) Section 301.

Approval of the generic mechanism is requested for three years. Participation is voluntary. There are no costs to respondents other than their time.

Estimated Annualized Burden Hours
Type of respondent | Form name | Number of respondents | Number of responses per respondent | Average burden per response (in hr) | Total burden (in hr)
General Public or Target Population | Focus Group | 160 | 1 | 1.5 | 240
| Online Focus Group | 120 | 1 | 1 | 120
| Interviews | 67 | 1 | 1 | 67
| Short Online Surveys | 8,001 | 1 | 6/60 | 800
| Medium Online Surveys | 13,334 | 1 | 25/60 | 5,556
| In-depth Online Surveys | 1,292 | 1 | 1 | 1,292
|  |  |  |  | 8,075

Catina Conner,
Acting Reports Clearance Officer, Centers for Disease Control and Prevention.

[FR Doc. 2011-17420 Filed 7-11-11; 8:45 am]

BILLING CODE 4163-18-P